DEPARTMENT OF COMMERCE

International Trade Administration

[A-570-967; C-570-968]

Aluminum Extrusions From the People's Republic of China: Notice of Court Decision Not in Harmony With Final Scope Ruling and Notice of Amended Final Scope Ruling Pursuant to Court Decision

AGENCY: Enforcement and Compliance, International Trade Administration, Department of Commerce.

SUMMARY: On July 18, 2016, the United States Court of International Trade (CIT) sustained the Department of Commerce's (Department) final results of redetermination in which the Department determined, under protest, that certain kitchen appliance door handles are not covered by the scope of the antidumping (AD) and countervailing duty (CVD) orders on aluminum extrusions from the People's Republic of China.

DATES: Effective Date: July 28, 2016.

FOR FURTHER INFORMATION CONTACT: James Terpstra, AD/CVD Operations, Office III, Enforcement and Compliance, U.S. Department of Commerce, 14th Street and Constitution Avenue NW., Washington, DC 20230; telephone: 202-482-3965.

SUPPLEMENTARY INFORMATION:

Background

On June 21, 2013, the Department issued a final scope ruling in which it determined that three types of kitchen appliance door handles (Types A, B, and C) imported by Meridian are within the scope of the Orders ¹ and did not meet the scope exclusions for “finished merchandise” and “finished goods kits.” ² Meridian challenged the Department's final scope ruling at the CIT.

¹ See Aluminum Extrusions from the People's Republic of China: Antidumping Duty Order, 76 FR 30650 (May 26, 2011) and Aluminum Extrusions from the People's Republic of China: Countervailing Duty Order, 76 FR 30653 (May 26, 2011) (the Orders).

² See “Final Scope Ruling on Meridian Kitchen Appliance Door Handles,” dated June 21, 2013 (Kitchen Appliance Door Handles Scope Ruling) at 12-15.

On December 7, 2015, the CIT issued an opinion and order in Meridian I sustaining the Department's findings in the Kitchen Appliance Door Handles Scope Ruling that Meridian's Type A door handles (consisting of a single piece of aluminum extrusion) and Type C door handles (consisting of a single piece of aluminum extrusion packaged as a “kit” with a tool and an instruction manual) are within the scope of the Orders based on a plain reading of the scope language.³ The Court, however, remanded the Department's determination that Type B door handles (consisting of a single piece of aluminum extrusion with two plastic end caps fastened on with screws) are within the scope of the Orders. The Court found the Department's determination to be unsupported by the general scope language.⁴ The Court further found that, assuming arguendo that Meridian's Type B door handles were covered by the scope language, the Department erred in finding that the products did not satisfy the “finished merchandise” exclusion.⁵

³ See Meridian Products LLC v. United States, Court No. 13-00246, Slip Op. 15-135 (Meridian I) at 6-9.

⁴ Id., at 10-13.

⁵ Id., at 13-16.

On March 23, 2016, the Department issued its Final Results of Redetermination, in which it found, respectfully, under protest, that Meridian's Type B door handles are not covered by the scope of the Orders because the general scope language did not cover such products. As a result, the Department did not consider whether Meridian's Type B door handles were subject to the exclusion for “finished merchandise.” ⁶

⁶ See Final Results of Redetermination Pursuant to Court Remand, Meridian Products, LLC v. United States, Court No. 13-00246, Slip Op. 15-135 (CIT December 7, 2015) (Final Results of Redetermination).

On July 18, 2016, in Meridian II the Court sustained the Department's finding in the Final Results of Redetermination that Meridian's Type B door handles are not covered by the scope of the Orders.⁷ Consistent with the decision of the United States Court of Appeals for the Federal Circuit (Federal Circuit) in Timken Co. v. United States, 893 F.2d 337 (Fed. Cir. 1990) (Timken), as clarified by Diamond Sawblades Mfrs. Coalition v. United States, 626 F.3d 1374 (CAFC 2010) (Diamond Sawblades), the Department is notifying the public that the final judgment in this case is not in harmony with the Department's final scope ruling and is amending the final scope ruling to find that certain kitchen appliance door handles imported by Meridian LLC (Meridian) are not covered by the scope of the AD and CVD orders on aluminum extrusions from the People's Republic of China.

⁷ See Meridian Products, LLC v. United States, Court No. 13-00246, Slip Op. 16-71 (Meridian II) at 11.

Timken Notice

In its decision in Timken, 893 F.2d at 341, as clarified by Diamond Sawblades, the Federal Circuit held that, pursuant to section 516A(e) of the Tariff Act of 1930, as amended (the Act), the Department must publish a notice of a court decision that is not “in harmony” with a Department determination and must suspend liquidation of entries pending a “conclusive” court decision. The CIT's July 18, 2016, judgment in Meridian II sustaining the Department's finding in the Final Results of Redetermination that Meridian's Type B door handles are not covered by the scope of the Orders constitutes a final decision of the Court that is not in harmony with the Kitchen Appliance Door Handles Scope Ruling. This notice is published in fulfillment of the publication requirements of Timken. Accordingly, the Department will continue the suspension of liquidation of Meridian's Type B door handles at issue pending expiration of the period of appeal or, if appealed, pending a final and conclusive court decision.

Amended Final Scope Ruling

Because there is now a final court decision with respect to the Kitchen Appliance Door Handles Scope Ruling, the Department amends its final scope ruling and finds that the scope of the Orders does not cover Meridian's Type B door handles. The Department will instruct U.S. Customs and Border Protection (CBP) that the cash deposit rate will be zero percent for Meridian's Type B door handles. In the event the CIT's ruling is not appealed, or if appealed, upheld by the Federal Circuit, the Department will instruct CBP to liquidate entries of Meridian's Type B door handles without regard to antidumping and/or countervailing duties, and to lift suspension of liquidation of such entries.

This notice is issued and published in accordance with section 516A(c)(1) of the Act.

Dated: August 2, 2016.
Ronald K. Lorentzen,
Acting Assistant Secretary for Enforcement and Compliance.

[FR Doc. 2016-18788 Filed 8-5-16; 8:45 am]

BILLING CODE 3510-DS-P